SMALL BUSINESS ADMINISTRATION

[Declaration of Disaster #3285]

State of Arizona (And Contiguous Counties in California, Nevada, and Utah)

Mohave County and the contiguous counties of Coconino, LaPaz, and Yavapai in Arizona; San Bernardino County, California; Clark and Lincoln Counties in Nevada; and Kane and Washington Counties in Utah constitute a disaster area as a result of damages caused by a monsoon storm that occurred on August 16, 2000. Applications for loans for physical damage as a result of this disaster may be filed until the close of business on October 30, 2000 and for economic injury until the close of business on May 30, 2001 at the address listed below or other locally announced locations: U.S. Small Business Administration, Disaster Area 4 Office, P. O. Box 13795, Sacramento, CA 95853-4795.

The interest rates are:

| Percent
For Physical Damage:
Homeowners With Credit Available Elsewhere | 7.375
Homeowners Without Credit Available Elsewhere | 3.687
Businesses With Credit Available Elsewhere | 8.000
Businesses and Non-Profit Organizations Without Credit Available Elsewhere | 4.000
Others (Including Non-Profit Organizations) With Credit Available Elsewhere | 6.750
For Economic Injury: Businesses and Small Agricultural Cooperatives Without Credit Available Elsewhere | 4.000

The numbers assigned to this disaster for physical damage are 328511 for Arizona, 328611 for California, 328711 for Nevada, and 328811 for Utah. For economic injury the numbers are 914300 for Arizona, 914400 for California, 914500 for Nevada, and 914600 for Utah.

(Catalog of Federal Domestic Assistance Program Nos. 59002 and 59008)
Dated: August 30, 2000.
Kris Swedin,
Acting Administrator.

[FR Doc. 00-23045 Filed 9-7-00; 8:45 am]

BILLING CODE 8025-01-P